DEPARTMENT OF ENERGY

Federal Energy Regulatory Commission

Combined Notice of Filings #1

Take notice that the Commission received the following electric corporate filings:

Docket Numbers: EC14-61-000.

Applicants: MACH Gen, LLC, New Harquahala Generating Company, LLC, New Athens Generating Company, LLC, Millennium Power Partners, L.P.

Description: Application of MACH Gen, LLC, et. al. for Disposition of Jurisdictional Facilities under Section 203 of the FPA under.

Filed Date: 2/27/14.

Accession Number: 20140227-5128.

Comments Due: 5 p.m. ET 4/28/14.

Take notice that the Commission received the following electric rate filings:

Docket Numbers: ER12-1179-018.

Applicants: Southwest Power Pool, Inc.

Description: Integrated Marketplace Third Compliance Filing to be effective 3/1/2014.

Filed Date: 2/26/14.

Accession Number: 20140226-5228.

Comments Due: 5 p.m. ET 3/19/14.

Docket Numbers: ER13-1188-020.

Applicants: Pacific Gas and Electric Company.

Description: WDT2 and Western CoO Settlement Compliance Filing to be effective 11/1/2013.

Filed Date: 1/15/14.

Accession Number: 20140115-5001.

Comments Due: 5 p.m. ET 3/20/14.

Docket Numbers: ER14-693-002.

Applicants: Entergy Services, Inc.

Description: EES LBA Agreement Refile—EM BR 2-26-2014 to be effective 12/31/9998.

Filed Date: 2/26/14.

Accession Number: 20140226-5227.

Comments Due: 5 p.m. ET 3/31/14.

Docket Numbers: ER14-694-002.

Applicants: Entergy Services, Inc.

Description: EES LBA Agreement Refile—EM BM 2-26-2014 to be effective 12/31/9998.

Filed Date: 2/26/14.

Accession Number: 20140226-5225.

Comments Due: 5 p.m. ET 3/31/14.

Docket Numbers: ER14-696-002.

Applicants: Entergy Services, Inc.

Description: EES LBA Agreement Refile—Dow Plaq 2-26-2014 to be effective 12/31/9998.

Filed Date: 2/26/14.

Accession Number: 20140226-5224.

Comments Due: 5 p.m. ET 3/31/14.

Docket Numbers: ER14-697-002.

Applicants: Entergy Services, Inc.

Description: EES LBA Agreement Refile—Dow UC 2-26-2014 to be effective 12/31/9998.

Filed Date: 2/26/14.

Accession Number: 20140226-5223.

Comments Due: 5 p.m. ET 3/31/14.

Docket Numbers: ER14-700-002.

Applicants: Entergy Services, Inc.

Description: EES LBA Agreement Refile—Oxy 2-26-2014 to be effective 12/31/9998.

Filed Date: 2/26/14.

Accession Number: 20140226-5222.

Comments Due: 5 p.m. ET 3/31/14.

Docket Numbers: ER14-701-002.

Applicants: Entergy Services, Inc.

Description: EES LBA Agreement Refile—SRW Cogen 2-25-2014 to be effective 12/31/9998.

Filed Date: 2/26/14.

Accession Number: 20140226-5230.

Comments Due: 5 p.m. ET 3/31/14.

Docket Numbers: ER14-702-002.

Applicants: Entergy Arkansas, Inc.

Description: EAI LBA Agreement Refile—Calpine PB 2-26-2014 to be effective 12/31/9998.

Filed Date: 2/26/14.

Accession Number: 20140226-5220.

Comments Due: 5 p.m. ET 3/31/14.

Docket Numbers: ER14-704-002.

Applicants: Entergy Services, Inc.

Description: EES LBA Agreement Refile—Sabine Cogen 2-26-2014 to be effective 12/31/9998.

Filed Date: 2/26/14.

Accession Number: 20140226-5226.

Comments Due: 5 p.m. ET 3/31/14.

Docket Numbers: ER14-772-002.

Applicants: Fortistar North Tonawanda Inc.

Description: Second Supplemental Filing to be effective 2/26/2014.

Filed Date: 2/26/14.

Accession Number: 20140226-5179.

Comments Due: 5 p.m. ET 3/19/14.

Docket Numbers: ER14-1040-000.

Applicants: Lumens Energy Supply LLC.

Description: Supplement to January 17, 2014 Lumens Energy Supply LLC tariff filing.

Filed Date: 2/26/14.

Accession Number: 20140226-5067.

Comments Due: 5 p.m. ET 3/12/14.

Docket Numbers: ER14-1375-000.

Applicants: American Electric Power Service Corporation, Appalachian Power Company, Kentucky Power Company, Kingsport Power Company, Ohio Power Company, Wheeling Power Company, Indiana Michigan Power Company, PJM Interconnection, L.L.C.

Description: AEP submits revisions to PJM OATT Attachment H-14B Pt II Worksheet O re PBOP to be effective 7/1/2014.

Filed Date: 2/26/14.

Accession Number: 20140226-5195.

Comments Due: 5 p.m. ET 3/19/14.

Docket Numbers: ER14-1376-000.

Applicants: PacifiCorp.

Description: Termination of BPA Construction Agreement (Summer Lake PMU) to be effective 5/6/2014.

Filed Date: 2/26/14.

Accession Number: 20140226-5215.

Comments Due: 5 p.m. ET 3/19/14.

Docket Numbers: ER14-1377-000.

Applicants: Red Wolf Energy Trading.

Description: cancellation to be effective 3/1/2014.

Filed Date: 2/26/14.

Accession Number: 20140226-5216.

Comments Due: 5 p.m. ET 3/19/14.

Docket Numbers: ER14-1378-000.

Applicants: Old Dominion Electric Cooperative, PJM Interconnection, L.L.C.

Description: Original SA No. 3746 and Cancellation of SA No. 3594 re ODEC-DVP NITSA to be effective 4/1/2014.

Filed Date: 2/26/14.

Accession Number: 20140226-5229.

Comments Due: 5 p.m. ET 3/19/14.

Docket Numbers: ER14-1379-000.

Applicants: Southwest Power Pool, Inc.

Description: Ministerial Filing of Non-Substantive Tariff Revisions to Attachment AE (EIS) to be effective 8/20/2012.

Filed Date: 2/26/14.

Accession Number: 20140226-5231.

Comments Due: 5 p.m. ET 3/19/14.

Docket Numbers: ER14-1380-000.

Applicants: Public Service Company of New Mexico.

Description: Executed NITSA/NOA between PNM and the Jicarilla Apache Nation to be effective 4/28/201.

Filed Date: 2/27/14.

Accession Number: 20140227-5097.

Comments Due: 5 p.m. ET 3/20/14.

Take notice that the Commission received the following electric reliability filings:

Docket Numbers: RD14-4-000.

Applicants: North American Electric Reliability Corporation.

Description: Petition of the North American Electric Reliability Corporation for Approval of Proposed Reliability Standards for Interchange Scheduling and Coordination.

Filed Date: 2/27/14.

Accession Number: 20140227-5129.

Comments Due: 5 p.m. ET 3/31/14.

Docket Numbers: RD14-5-000.

Applicants: North American Electric Reliability Corporation.

Description: Petition of the North American Electric Reliability Corporation for Approval of Proposed Reliability Standards MOD-032-1 and MOD-033-1.

Filed Date: 2/25/14.

Accession Number: 20140225-5151.

Comments Due: 5 p.m. ET 3/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2014.
Nathaniel J. Davis, Sr.,
Deputy Secretary.

[FR Doc. 2014-04964 Filed 3-6-14; 8:45 am]

BILLING CODE 6717-01-P